FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the following information collection systems described below.

1. Type of Review: Renewal of a currently approved collection.

Title: Procedures for Monitoring Bank Secrecy Act Compliance.

OMB Number: 3064-0087.

Annual Burden:

Estimated annual number of respondents: 5,600.

Estimated time per response: .5 hours.

Total annual burden hours: 2,800 hours.

Expiration Date of OMB Clearance: September 30, 2001.

Supplementary Information: 12 CFR 326 requires all insured nonmember banks to establish and maintain procedures designed to assure and monitor their compliance with the requirements of the Bank Secrecy Act and the implementing regulations promulgated thereunder by the Department of Treasury at 31 CFR 103.

2. Type of Review: Renewal of a currently approved collection.

Title: Application for Waiver of Prohibition on Acceptance of Brokered Deposits by Adequately Capitalized Insured Institutions.

OMB Number: 3064-0099.

Annual Burden:

Estimated annual number of respondents: 25.

Estimated time per response: 6 hours.

Total annual burden hours: 150 hours.

Expiration Date of OMB Clearance: September 30, 2001.

Supplementary Information: Section 29 of the Federal Deposit Insurance Act prohibits undercapitalized insured depository institutions from accepting, renewing, or rolling over any brokered deposits. Adequately capitalized institutions may do so with a waiver from the FDIC, while well-capitalized institutions may accept, renew, or roll over brokered deposits without restriction.

3. Type of Review: Renewal of a currently approved collection.

Title: Notice of Branch Closure.

OMB Number: 3064-0109.

Annual Burden:

Estimated annual number of respondents: 1,364 (1,314 notice; 50 adoption).

Estimated time per response: 1,314-2 hours; 50-8 hours.

Total annual burden hours: 3,028 hours.

Expiration Date of OMB Clearance: September 30, 2001.

Supplementary Information: Section 42 of the Federal Deposit Insurance Act mandates that an institution that proposes to close a branch notify its primary Federal regulator no later than 90 days prior to the closing. Each insured depository institution is required to adopt policies for branch closings.

4. Type of Review: Renewal of a currently approved collection.

Title: Real Estate Lending Standards.

OMB Number: 3064-0112.

Annual Burden:

Estimated annual number of respondents: 5,600.

Estimated time per response: 20 hours.

Total annual burden hours: 112,000 hours.

Expiration of OMB Clearance: September 30, 2001.

Supplementary Information: Institutions will use real estate lending policies to guide their lending operations in a manner that is consistent with safe and sound banking practices and appropriate to their size, nature and scope of their operations. These policies should address certain lending considerations, including loan-to-value limits, loan administration policies, portfolio diversification standards, and documentation, approval and reporting requirements.

5. Type of Review: Renewal of a currently approved collection.

Title: Foreign Branching and Investment by Insured State Nonmember Banks.

OMB Number: 3064-0125.

Annual Burden:

Estimated annual number of respondents: 73.

Estimated time per response: varies.

Total annual burden hours: 22,298 hours.

Expiration Date of OMB Clearance: September 30, 2001.

Supplementary Information: Section 18(d)(2) of the Federal Deposit Insurance Act, requires a nonmember bank to obtain the FDIC's consent to establish or operate a branch in a foreign country and authorizes the FDIC to impose conditions and issue regulations governing foreign branches of nonmember banks. Section 18(l) requires a nonmember bank to obtain the FDIC's consent to acquire and hold, directly or indirectly, stock or other evidences of ownership in any foreign bank or other entity.

OMB Reviewer: Alexander T. Hunt, (202) 395-7860, Office of Management and Budget, Office of Information and Regulatory Affairs, Washington, DC 20503.

FDIC Contact: Tamara R. Manly, (202) 898-7453, Office of the Executive Secretary, Room F-4058, Federal Deposit Insurance Corporation, 550 17th Street NW., Washington, DC 20429.

Comments: Comments on these collections of information are welcome and should be submitted on or before September 27, 2001 to both the OMB reviewer and the FDIC contact listed above.

Addresses: Information about this submission, including copies of the proposed collections of information, may be obtained by calling or writing the FDIC contact listed above.

Federal Deposit Insurance Corporation.

Dated: August 22, 2001.
Robert E. Feldman,
Executive Secretary.

[FR Doc. 01-21639 Filed 8-27-01; 8:45 am]

BILLING CODE 6714-01-P